DEPARTMENT OF ENERGY

Federal Energy Regulatory Commission

[Docket No. EL12-2-000]

Southwest Power Pool, Inc.; Notice of Initiation of Proceeding and Refund Effective Date

On February 29, 2012, the Commission issued an order that initiated a proceeding in Docket No. EL12-2-000, pursuant to section 206 of the Federal Power Act (FPA), 16 U.S.C. 824e (2006), to determine the justness and reasonableness of certain language in section VII.8(b) of Attachment O of Southwest Power Pool's existing open access transmission tariff. Southwest Power Pool, Inc., 138 FERC ¶ 61,150 (2012).

The refund effective date in Docket No. EL12-2-000, established pursuant to section 206(b) of the FPA, will be the date of publication of this notice in the Federal Register.

Dated: February 29, 2012.
Nathaniel J. Davis, Sr.,
Deputy Secretary

[FR Doc. 2012-5340 Filed 3-5-12; 8:45 am]

BILLING CODE 6717-01-P